DEPARTMENT OF HOMELAND SECURITY

Federal Emergency Management Agency

[Docket ID FEMA-2022-0002; Internal Agency Docket No. FEMA-B-2208]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before May 10, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2208, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Anderson County, Kentucky and Incorporated Areas
Project: 18-04-0018S Preliminary Date: April 23, 2021
Unincorporated Areas of Anderson County | Anderson County Zoning Administration Office, 139 South Main Street, Lawrenceburg, KY 40342.
Boyle County, Kentucky and Incorporated Areas
Project: 18-04-0018S Preliminary Date: April 23, 2021 and July 16, 2021
City of Perryville | City Hall, 314 East 2nd Street, Perryville, KY 40468.
Unincorporated Areas of Boyle County | Boyle County Courthouse, 321 West Main Street, Danville, KY 40422.
Bullitt County, Kentucky and Incorporated Areas
Project: 18-04-0018S Preliminary Date: April 23, 2021
City of Lebanon Junction | City Hall, 271 Main Street, Lebanon Junction, KY 40150.
Unincorporated Areas of Bullitt County | Bullitt County, Nina Mooney Courthouse Annex Building, 149 North Walnut Street, 3rd Floor, Shepherdsville, KY 40165.
Casey County, Kentucky and Incorporated Areas
Project: 18-04-0018S Preliminary Date: April 23, 2021
Unincorporated Areas of Casey County | Casey County Court Clerk Office, 625 Campbellsville Street, Liberty, KY 42539.
Hardin County, Kentucky and Incorporated Areas
Project: 18-04-0018S Preliminary Date: April 23, 2021
Unincorporated Areas of Hardin County | Hardin County Planning and Development Commission, 150 North Provident Way, Suite 225, Elizabethtown, KY 42701.
LaRue County, Kentucky and Incorporated Areas
Project: 18-04-0018S Preliminary Date: April 23, 2021
Unincorporated Areas of LaRue County | LaRue County Courthouse, 209 West High Street, Hodgenville, KY 42748.
Marion County, Kentucky and Incorporated Areas
Project: 18-04-0018S Preliminary Date: April 23, 2021
City of Bradfordsville | City Hall, 202 West Main Street, Bradfordsville, KY 40009.
City of Lebanon | City Hall, 240 West Main Street, Lebanon, KY 40033.
City of Raywick | Marion County, Dave Ross Hourigan Government Center Building, 223 North Spalding Avenue, Suite 201, Lebanon, KY 40033.
Unincorporated Areas of Marion County | Marion County, Dave Ross Hourigan Government Center Building, 223 North Spalding Avenue, Suite 201, Lebanon, KY 40033.
Mercer County, Kentucky and Incorporated Areas
Project: 18-04-0018S Preliminary Date: April 23, 2021
Unincorporated Areas of Mercer County | The Greater Harrodsburg/Mercer County Planning and Zoning Commission, 109 Short Street, Number 1, Harrodsburg, KY 40330.
Nelson County, Kentucky and Incorporated Areas
Project: 18-04-0018S Preliminary Date: April 23, 2021 and September 10, 2021
City of Bardstown | Nelson County Old Courthouse, 1 Court Square, Bardstown, KY 40004.
City of New Haven | Nelson County Old Courthouse, 1 Court Square, Bardstown, KY 40004.
Unincorporated Areas of Nelson County | Nelson County Old Courthouse, 1 Court Square, Bardstown, KY 40004.
Washington County, Kentucky and Incorporated Areas
Project: 18-04-0018S Preliminary Date: April 23, 2021
City of Springfield | City Hall, 127 West Main Street, Springfield, KY 40069.
Unincorporated Areas of Washington County | Washington County Emergency Management, 126 Armory Hill, Springfield, KY 40069.
Lafourche Parish, Louisiana and Incorporated Areas
Project: 20-06-0105S Preliminary Date: June 16, 2021
City of Thibodaux | Public Works Department, 1219 Henry S. Thibodeaux Street, Thibodaux, LA 70302.
Town of Golden Meadow | Town Hall, 107 Jervis Drive, Golden Meadow, LA 70357.
Town of Lockport | Town Hall, 710 Church Street, Lockport, LA 70374.
Unincorporated Areas of Lafourche Parish | Lafourche Parish, Mathews Government Complex, 4876 Highway 1, Mathews, LA 70375.
Georgetown County, South Carolina and Incorporated Areas
Project: 06-04-C558S Preliminary Date: November 12, 2021
City of Georgetown | City Hall, 1134 North Fraser Street, Georgetown, SC 29440.
Town of Andrews | City Hall, 101 North Morgan Avenue, Andrews, SC 29510.
Unincorporated Areas of Georgetown County | Georgetown County Courthouse, Building Division and Permits, 129 Screven Street, Room 249, Georgetown, SC 29442.

[FR Doc. 2022-02729 Filed 2-8-22; 8:45 am]

BILLING CODE 9110-12-P